ENVIRONMENTAL PROTECTION AGENCY

[FRL-7864-7]

Meeting of the Local Government Advisory Committee

AGENCY: Environmental Protection Agency.

ACTION: Notice.

SUMMARY: The Local Government Advisory Committee will meet on February 9-11, 2005 in Half Moon Bay, CA. The Committee will be discussing environmental indicators, water infrastructure needs and small community issues.

The Committee will hear comments from the public between 10 a.m.-10:15 a.m. on Thursday, February 10th. Each individual or organization wishing to address the LGAC meeting will be allowed a maximum of five minutes to present their point of view. Please contact the Designated Federal Officer (DFO) at the number listed below to schedule agenda time. Time will be allotted on a first come, first serve basis, and the total period for comments may be extended, if the number of requests for appearances require it.

This is an open meeting and all interested persons are invited to attend. LGAC meeting minutes and Subcommittee summary notes will be available after the meeting and can be obtained by written request from the DFO. Members of the public are requested to call the DFO at the number listed below if planning to attend so that arrangements can be made to comfortably accommodate attendees as much as possible. Seating will be on a first come, first serve basis.

DATES: The Local Government Advisory Committee plenary session will begin at 8:30 a.m. Thursday, February 10th and conclude at 12 p.m. on Friday, February 11th.

ADDRESSES: The meeting will be held in Half Moon Bay, CA at the Half Moon Bay Lodge, located at 2400 S. Cabrillo Highway in the Club Conference Room.

Additional information can be obtained by writing the DFO at 1200 Pennsylvania Avenue, NW., (1301A), Washington, DC 20460.

FOR FURTHER INFORMATION CONTACT: The DFO for the Local Government Advisory Committee (LGAC) is Pamela Luttner (202) 564-3107.

Information on Services for the Handicapped: For information on facilities or services for the handicapped or to request special assistance at the meetings, contact the Designated Federal Officer at (202) 564-3107 as soon as possible.

Dated: January 12, 2005.
Pamela A. Luttner,
Designated Federal Officer, Local Government Advisory Committee.

[FR Doc. 05-1647 Filed 1-27-05; 8:45 am]

BILLING CODE 6560-80-P